ENVIRONMENTAL PROTECTION AGENCY

40 CFR Part 63

[FRL-6965-5]

RIN 2060-AH22

National Emission Standards for Hazardous Air Pollutants: Solvent Extraction for Vegetable Oil Production

AGENCY: Environmental Protection Agency (EPA).

ACTION: Final rule.

SUMMARY: This action promulgates national emission standards for hazardous air pollutants (NESHAP) for solvent extraction for vegetable oil production. This industry is comprised of facilities that produce crude vegetable oil and meal products by removing oil from listed oilseeds through direct contact with an organic solvent. The EPA has identified solvent extraction for vegetable oil production processes as major sources of a single hazardous air pollutant (HAP), n-hexane.

The EPA does not consider n-hexane classifiable as a human carcinogen. However, short-term exposure to high levels of n-hexane is reported to cause reactions such as irritations, dizziness, headaches, and nausea. Long-term exposure can cause permanent nerve damage.

This final rule will require all existing and new solvent extraction for vegetable oil production processes that are major sources to meet HAP emission standards reflecting the application of the maximum achievable control technology (MACT). The EPA estimates that this final rule will reduce nationwide emissions of n-hexane from solvent extraction for vegetable oil production processes by approximately 6,800 tpy. The emissions reductions achieved by these NESHAP, when combined with the emissions reductions achieved by other similar standards, will provide protection to the public and achieve a primary goal of the Clean Air Act (CAA).

EFFECTIVE DATE: April 12, 2001.

ADDRESSES: Docket No. A-97-59 contains supporting information used in developing the standards. The docket is located at the U.S. EPA, 401 M Street, SW., Washington, DC 20460 in room M-1500, Waterside Mall (ground floor), and may be inspected from 8:30 a.m. to 5:30 p.m., Monday through Friday, excluding legal holidays.

FOR FURTHER INFORMATION CONTACT: For information concerning applicability and rule determinations, contact your State or local representative or the appropriate EPA Regional Office representative. For information concerning the analyses performed in developing these NESHAP, contact Mr. James F. Durham, Waste & Chemical Processes Group, Emission Standards Division, (MD-13), U.S. EPA, Research Triangle Park, North Carolina 27711; telephone number (919) 541-5672; facsimile number (919) 541-0246; electronic mail address: durham.jim@epa.gov.

SUPPLEMENTARY INFORMATION: Docket. The docket is an organized and complete file of all the information considered by the EPA in the development of today's final rule. The docket is a dynamic file because material is added throughout the rulemaking process. The docketing system is intended to allow members of the public and industries involved to readily identify and locate documents so that they can effectively participate in the rulemaking process. Along with the proposed and promulgated standards and their preambles, the contents of the docket will serve as the record in the case of judicial review. (See section 307(d)(7)(A) of the CAA.) The regulatory text and other materials related to today's final rule are available for review in the docket or copies may be mailed on request from the Air Docket by calling (202) 260-7548. A reasonable fee may be charged for copying docket materials.

World Wide Web (WWW). In addition to being available in the docket, an electronic copy of today's final rule will also be available on the WWW through the Technology Transfer Network (TTN). Following signature, a copy of today's final rule will be posted on the TTN's policy and guidance page for newly proposed or promulgated rules http://www.epa.gov/ttn/oarpg. The TTN provides information and technology exchange in various areas of air pollution control. If more information regarding the TTN is needed, call the TTN HELP line at (919) 541-5384.

Regulated Entities. If your facility produces vegetable oil from corn germ, cottonseed, flax, peanuts, rapeseed (for example, canola), safflower, soybeans, or sunflower, it may be a “regulated entity.” Categories and entities potentially regulated by this action include:

Category | SIC code | NAICS | Examples of regulated entities
Industry | 2074 | 311223 | Cottonseed oil mills.
| 2075 | 311222 | Soybean oil mills.
| 2076 | 311223 | Other vegetable oil mills, excluding soybeans and cottonseed mills.
| 2079 | 311223 | Other vegetable oil mills, excluding soybeans and cottonseed mills.
| 2048 | 311119 | Prepared feeds and feed ingredients for animals and fowls, excluding dogs and cats.
| 2041 | 311211 | Flour and other grain mill product mills.
| 2046 | 311221 | Wet corn milling.
Federal government |  |  | Not affected.
State/local/tribal government |  |  | Not affected.

This table is not intended to be exhaustive, but rather provides a guide for readers regarding entities likely to be regulated by this action. To determine whether your facility is regulated by this action, you should examine the applicability criteria in § 63.2832 of today's final rule. If you have any questions regarding the applicability of this action to a particular entity, consult the appropriate EPA Regional Office representative.

Judicial Review. The NESHAP for solvent extraction for vegetable oil production were proposed on May 26, 2000 (65 FR 34252). Today's final rule announces the EPA's final decision on the rule. Under section 307(b)(1) of the CAA, judicial review of these NESHAP is available by filing a petition for review in the U.S. Court of Appeals for the District of Columbia Circuit by June 11, 2001. Only those objections to this rule which were raised with reasonable specificity during the period for public comment may be raised during judicial review. Under section 307(b)(2) of the CAA, the requirements that are the subject of today's final rule may not be challenged later in civil or criminal proceedings brought by the EPA to enforce these requirements.

Outline. The information presented in this preamble is organized as follows:

I. What are the environmental, energy, cost, and economic impacts?

II. What significant comments did we consider and what changes and clarifications did we make to the proposed standards?

III. What are the administrative requirements for this rule?

A. Executive Order 12866, Regulatory Planning and Review

B. Executive Order 13132, Federalism

C. Executive Order 13175, Consultation and Coordination with Indian Tribal Governments

D. Executive Order 13045, Protection of Children from Environmental Health Risks and Safety Risks

E. Unfunded Mandates Reform Act

F. Regulatory Flexibility Act (RFA), as amended by the Small Business Regulatory Enforcement Fairness Act of 1996 (SBREFA), 5 U.S.C. 601 et seq.

G. Paperwork Reduction Act

H. National Technology Transfer and Advancement Act of 1995

I. Congressional Review Act

I. What Are the Environmental, Energy, Cost, and Economic Impacts?

The nationwide environmental and cost impacts for today's final rule are presented in Table 1 of this preamble. Additional information on the costs and environmental impacts of control options are discussed in the following five documents, which can be found in docket A-97-59:

(1) National Emission Standards for Hazardous Air Pollutants: Solvent Extraction for Vegetable Oil Production; proposed rule (65 FR 34252, May 26, 2000).

(2) Public Comments and EPA Responses to the Proposed NESHAP for Solvent Extraction for Vegetable Oil Production; memorandum dated November 13, 2000.

(3) Summary of Environmental and Energy Impacts for the MACT Floor; memorandum dated September 24, 1999.

(4) Final Summary of Emission Reductions and Control Costs Associated with Achieving the MACT Floor and a Control Option Above the MACT Floor; memorandum dated November 10, 2000.

Table 1.—Summary of National Impacts for the Solvent Extraction for Vegetable Oil Production NESHAP
Emissions reductions (tpy): VOC | Emissions reductions (tpy): HAP | Overall emission reduction (percent) | Total capital investment (million $) | Annual monitoring, recordkeeping, & reporting cost (million $/yr) | Total annual cost (million $/yr) | Cost effectiveness ($/ton): VOC | Cost effectiveness ($/ton): HAP
10,600 | 6,800 | 25 | 29.7 | 4.2 | 12.3 | 1,200 | 1,800

(5) Summary of Environmental and Energy Impacts for Above the MACT Floor Regulatory Option; memorandum dated November 1, 2000.

The economic impacts of the MACT floor are discussed in the proposed regulation and in the document, “Economic Analysis of Air Pollution Regulations: Vegetable Oil Industry.” The major findings regarding the economic impacts of the rule have not changed as a result of public comments submitted on the proposed rule. Individual facilities within the industry may experience revenue increases or decreases, depending on their costs of production, but on average the industry revenues are anticipated to increase slightly. No facilities are expected to close as a result of the rule and labor market impacts and international trade impacts are also anticipated to be minimal. Minor revisions to the economic analysis were made in response to public comments on the proposed rule. Both the original and the revised economic documents are in docket A-97-59.

II. What Significant Comments Did We Consider and What Changes and Clarifications Did We Make to the Proposed Standards?

A comprehensive summary of public comments and responses can be found in the document entitled “Public Comments and Responses to the Proposed NESHAP for Solvent Extraction for Vegetable Oil Production” (Docket No. A-97-59). The only major change we made to the rule based on public comments was allowing the substitution of an accounting month for a calendar month to determine solvent losses and the quantities of oilseed processed by an affected source.

One commenter brought to our attention that some facilities determine solvent losses and the quantity of oilseed processed on the basis of an accounting month, which may consist of approximately 4 to 5 calendar weeks. The end of an accounting month may not correspond exactly to the end of a calendar month. Thus, an accounting month may end before or after a corresponding calendar month. However, 12 accounting months correspond exactly to a calendar year. To accommodate facilities which determine the quantities of oilseed processed in this manner, we revised the rule to allow solvent loss and oilseed crush determinations to coincide with accounting practices, as long as there are twelve determinations in a calendar year of approximately equal duration. This clarification can be found in §§ 63.2853(a)(1) and 63.2855(a)(1) of the final rule.

We also made the following five clarifications, which did not add or change any of the proposed regulatory requirements.

(1) In § 63.2832(b)(4), we clarified that research and development facilities are not subject to this rule (provided they are not major sources).

(2) In § 63.2832(c), we clarified that an area source will become subject to this rule if it increases its HAP emissions (or its potential to emit HAP) such that the source becomes categorized as a major source of HAP emissions.

(3) In § 63.2854(b)(1), we changed the name of the hazardous air pollutant data sheet to “manufacturer's certificate of analysis” which is a more appropriate term for the solvent extraction for vegetable oil production industry. Thus, the final rule will permit affected sources to use either material safety data sheets or “manufacturer's certificates of analysis” to determine the HAP content of the extraction solvent.

(4) In § 63.2855, we clarified that all oilseed measurements must be determined on an “as received” basis which refers to the oilseed physical and chemical characteristics as initially received by the source and prior to any oilseed handling and processing.

(5) In § 63.2871(a), we clarified that the U.S. EPA still has authority to implement and enforce this rule, even if the authority has been delegated to your State, local, or tribal agency.

III. What Are the Administrative Requirements for This Rule?

A. Executive Order 12866, Regulatory Planning and Review

Under Executive Order 12866 (58 FR 51735, October 4, 1993), we must determine whether the regulatory action is “significant” and therefore subject to review by the Office of Management and Budget (OMB) and the requirements of the Executive Order. The Executive Order defines “significant regulatory action” as one that is likely to result in a rule that may:

(1) Have an annual effect on the economy of $100 million or more, or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs, or the rights and obligations of recipients thereof; or

(4) Raise novel legal or policy issues arising out of legal mandates, the President's priorities, or the principles set forth in the Executive Order.

Pursuant to the terms of Executive Order 12866, it has been determined that today's final rule is not a “significant regulatory action” because it will not have an annual effect on the economy of $100 million or more and is therefore not subject to OMB review.

B. Executive Order 13132, Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the rule. The EPA also may not issue a regulation that has federalism implications and that preempts State law unless EPA consults with State and local officials early in the process of developing the rule.

If EPA complies by consulting, Executive Order 13132 requires EPA to provide to the OMB, in a separately identified section of the preamble to the rule, a federalism summary impact statement (FSIS). The FSIS must include a description of the extent of EPA's prior consultation with State and local officials, a summary of the nature of their concerns and EPA's position supporting the need to issue the regulation, and a statement of the extent to which the concerns of State and local officials have been met. Also, when EPA transmits a final rule with federalism implications to OMB for review pursuant to Executive Order 12866, EPA must include a certification from its federalism official stating that EPA has met the requirements of Executive Order 13132 in a meaningful and timely manner.

Today's final rule will not have substantial direct effects on the States, on the relationship between the national government and the States, or on the distribution of power and responsibilities among the various levels of government, as specified in Executive Order 13132. This is because today's final rule applies to affected sources in the vegetable oil production industry, not to States or local governments. Nor will State law be preempted, or any mandates be imposed on States or local governments. Thus, the requirements of section 6 of the Executive Order do not apply to today's final rule. The EPA notes, however, that although not required to do so by this Executive Order (or otherwise), it did consult with State governments during development of today's final rule.

C. Executive Order 13175, Consultation and Coordination With Indian Tribal Governments

On January 1, 2001, Executive Order 13084 was superseded by Executive Order 13175. However, this rule was developed during the period when Executive Order 13084 was still in force, and so tribal considerations were addressed under Executive Order 13084. Under Executive Order 13084, EPA may not issue a regulation that is not required by statute, that significantly or uniquely affects the communities of Indian tribal governments, and that imposes substantial direct compliance costs on those communities, unless the Federal government provides the funds necessary to pay the direct compliance costs incurred by the tribal governments, or EPA consults with those governments. If EPA complies by consulting, Executive Order 13084 requires EPA to provide to the OMB, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.”

Today's final rule does not significantly or uniquely affect the communities of Indian tribal governments. No known vegetable oil production facility is located within the jurisdiction of any tribal government. Accordingly, the requirements of section 3(b) of Executive Order 13084 do not apply to today's final rule.

D. Executive Order 13045, Protection of Children From Environmental Health Risks and Safety Risks

Executive Order 13045, “Protection of Children from Environmental Health Risks and Safety Risks” (62 FR 19885, April 23, 1997), applies to any rule that:

(1) Is determined to be “economically significant” as defined under Executive Order 12866; and

(2) Concerns an environmental health or safety risk that EPA has reason to believe may have a disproportionate effect on children. If the regulatory action meets both criteria, EPA must evaluate the environmental health or safety effects of the planned rule on children, and explain why the planned regulation is preferable to other potentially effective and reasonably feasible alternatives considered by EPA.

The EPA interprets Executive Order 13045 as applying only to those regulatory actions that are based on health or safety risks, such that the analysis required under section 5-501 of the Executive Order has the potential to influence the regulation. Today's final rule is not subject to Executive Order 13045 because it establishes an environmental standard based on available technology rather than reduction of health risk. No children's risk analysis was performed because no alternative technologies exist that would provide greater stringency at a reasonable cost. Furthermore, today's final rule has been determined not to be “economically significant” as defined under Executive Order 12866.

E. Unfunded Mandates Reform Act of 1995

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures by State, local, and tribal governments, in aggregate, or by the private sector, of $100 million or more in any 1 year. Before promulgating an EPA rule for which a written statement is needed, section 205 of the UMRA generally requires the EPA to identify and consider a reasonable number of regulatory alternatives and adopt the least-costly, most cost-effective, or least-burdensome alternative that achieves the objectives of the rule. The provisions of section 205 do not apply when they are inconsistent with applicable law. Moreover, section 205 allows the EPA to adopt an alternative other than the least-costly, most cost-effective, or least-burdensome alternative if the Administrator publishes with the final rule an explanation why that alternative was not adopted. Before the EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

The EPA has determined that this rule does not contain a Federal mandate that may result in expenditures of $100 million or more for State, local, and tribal governments, in the aggregate, or the private sector in any 1 year. The maximum total annual cost of today's final rule for any 1 year has been estimated to be less than $15 million. Thus, today's final rule is not subject to the requirements of sections 202 and 205 of the UMRA. In addition, the EPA has determined that today's final rule contains no regulatory requirements that might significantly or uniquely affect small governments because it contains no requirements that apply to such governments or impose obligations upon them. Therefore, today's final rule is not subject to the requirements of section 203 of the UMRA.

F. Regulatory Flexibility Act (RFA), as amended by the Small Business Regulatory Enforcement Fairness Act of 1996 (SBREFA), 5 U.S.C. 601 et seq.

The EPA has determined that it is not necessary to prepare a regulatory flexibility analysis in connection with today's final rule. The EPA has also determined that today's final rule will not have a significant economic impact on a substantial number of small entities. For purposes of assessing the impact of today's final rule on small entities, small entities are defined as small businesses, small not-for-profit enterprises, and small governmental jurisdictions.

For today's final rule, the impacted small entities are businesses, and the Small Business Administration defines the criteria used to designate a business as small. The relevant small business criteria are shown below.

Table 2.—Affected Industry Classification Codes and Small Business Criteria for the Solvent Extraction for Vegetable Oil Production NESHAP
SIC | NAICS | Small business criteria (by NAICS)
2046—Wet Corn Milling | 311221—Wet Corn Milling | fewer than 750 employees.
2041—Flour and Other Grain Mill Products | 311211—Flour Milling | fewer than 500 employees.
2074—Cottonseed Oil Mills | 311223—Other Oilseed Processing | fewer than 1,000 employees.
2075—Soybean Oil Mills | 311222—Soybean Processing | fewer than 500 employees.
2076—Vegetable Oil Mills | 311223—Other Oilseed Processing | fewer than 1,000 employees.

Based upon these criteria, 15 companies operating oilseed processing facilities are small businesses. These small businesses operated 21 vegetable oil processing facilities or 20 percent of the solvent extraction facilities in operation during 1995. Sixteen of these 21 facilities were cottonseed processing mills indicating that 64 percent of the 25 cottonseed processing facilities operating in 1995 were operated by small businesses.

After considering the economic impacts of today's final rule on small entities, I certify that this action will not have a significant economic impact on a substantial number of small entities. We have analyzed the potential impact on the small entities by calculating the ratio of estimated annualized emissions control costs relative to baseline 1995 sales revenue for each small company expected to be impacted by the rule. While the cost-to-sales ratio (CSR) has different significance for different market situations, it is a good rough gauge of potential impact. If costs for the individual firm (or group of firms) are completely passed on to the purchasers of the good(s) being produced, the ratio is an estimate of the price increase (in percentage form after multiplying the ratio by 100). If costs are completely absorbed by the producer, this ratio is an estimate of the decrease in pretax profits (in percentage form after multiplying the ratio by 100). The distribution of CSR's across the whole market, the competitiveness of the market, and profit-to-sales ratios are among the obvious factors that may influence the significance of any particular CSR for an individual facility. The mean or average CSR for small companies affected by today's final rule is 0.30 percent, with range of CSR from a low of 0.03 percent to a high estimate of 0.61 percent. As a result of the increased costs of emissions controls, these firms will either increase the price of their products in response to a market change in price, absorb the cost increase with no price increase, or respond with a combination of these approaches. Since the estimated costs as a percentage of sales is relatively minimal for the affected small oilseed processing companies, it is anticipated that the rule will not have a significant impact on the profitability of affected companies.

Many cottonseed processing facilities are owned by small businesses. Ten of the 25 cottonseed processing facilities have ceased operation or are currently dormant subsequent to the baseline year of 1995. These factors prompted an additional analysis to determine whether cottonseed processing facilities will experience significant economic impacts as a result of today's final rule. For this analysis, the estimated costs of emissions controls for an individual facility were compared to the estimated 1995 sales revenue for that facility to estimate facility-specific CSR's. A CSR exceeding 1 percent was determined to be an indicator of the potential for a significant economic impact for cottonseed processing facilities. For the nine cottonseed processing facilities currently operating that are owned by small businesses, the average CSR is 0.28 percent with a high-low range of 0.05 to 0.52 percent. These estimated costs as a percent of sales are less than 1 percent indicating that significant economic impacts are not likely for the cottonseed facilities owned by small businesses as a result of today's final rule.

Although today's final rule will not have a significant economic impact on a substantial number of small entities, EPA nonetheless has tried to reduce the impact of this rule on small entities. We worked closely with a coalition of four industrial trade associations throughout the rule development process. As a result of this interaction, separate standards were developed for each type of oilseed because of differences in the operating practices and the capabilities to reduce emissions among the oilseeds affected by the rule. In addition, the rule regulates total plant solvent losses rather than losses from each emission point, thus providing flexibility to select control options that are most cost effective for each plant. Moreover, the monitoring, recordkeeping, and reporting costs are low because compliance can be determined from existing plant records of purchases and inventories of solvent and oilseeds. These steps have reduced the burden of the rule for both large and small plants.

Further steps were taken to reduce the burden for small cottonseed oil plants. The performance standards in today's final rule are expressed in terms of gallons of emissions per ton of seeds processed because most of the emissions relate to the seed processing rate. However, a small percentage of the emissions, such as those from plant shutdowns and startups, are not related to the seed throughput. These “fixed” emissions become more significant for small plants because they tend to shutdown and startup more frequently than large plants. The cottonseed oil producers pointed out that this situation was particularly troublesome for small cottonseed oil plants. In response to the industry's concern, we requested additional information from the industry regarding the operating practices and emissions from small cottonseed oil plants. After examining this information, separate, less stringent performance standards were developed to reflect the intermittent operation of this segment of the industry.

G. Paperwork Reduction Act

The information collection requirements in today's final rule will be submitted for approval to the OMB under the Paperwork Reduction Act, 44 U.S.C. 3501 et seq. An Information Collection Request (ICR) document has been prepared by EPA (ICR No. 1947-02) and a copy may be obtained from Sandy Farmer by mail at the U.S. Environmental Protection Agency, Office of Environmental Information, Collection Strategies Division (2822), 1200 Pennsylvania Avenue NW, Washington, DC 20460, by e-mail at farmer.sandy@epa.gov, or by calling (202) 260-2740. A copy may also be downloaded off the internet at http://www.epa.gov/icr. The information requirements are not effective until OMB approves them.

The information requirements are based on notification, recordkeeping, and reporting requirements in the NESHAP General Provisions (40 CFR part 63, subpart A), which are mandatory for all operators subject to national emission standards. These recordkeeping and reporting requirements are specifically authorized by section 114 of the CAA (42 U.S.C. 7414). All information submitted to the EPA pursuant to the recordkeeping and reporting requirements for which a claim of confidentiality is made is safeguarded according to EPA policies set forth in 40 CFR part 2, subpart B.

The total 3-year burden of monitoring, recordkeeping, and reporting for this collection is estimated at 30,275 labor hours, and the annual average burden is 10,092 labor hours for the affected facilities. There are no required capital and operations and maintenance costs for the solvent extraction for vegetable oil production NESHAP. This estimate includes initial notification(s); plan for demonstrating compliance; startup, shutdown, and malfunction (SSM) plan; notification of compliance status; monthly inventory recordkeeping; monthly determination of the compliance ratio; annual compliance certifications; deviation notification reports; periodic SSM reports; and immediate SSM reports for each of the 106 existing sources and one new source per year from proposal.

Burden means the total time, effort, or financial resources people spend to generate, maintain, keep, or disclose to or for a Federal agency. This includes the time needed to review instructions; develop, acquire, install, and use technology and systems to collect, validate, and verify information; process, maintain, disclose, and provide information; adjust ways to comply with any previously applicable instructions and requirements; train people to respond to a collection of information; search data sources; collect and review information; and transmit or otherwise disclose the information.

An agency may not conduct or sponsor, and a person is not required to respond to, a collection of information unless it displays a currently valid OMB control number. The OMB control numbers for EPA's regulations are in 40 CFR part 9 and 48 CFR chapter 15.

H. National Technology Transfer and Advancement Act of 1995

Under section 12(d) of the National Technology Transfer and Advancement Act (NTTAA) of 1995 (Public Law No. 104-113), all Federal agencies are required to use voluntary consensus standards (VCS) in their regulatory and procurement activities unless to do so would be inconsistent with applicable law or otherwise impractical. Voluntary consensus standards are technical standards (e.g., materials specifications, test methods, sampling procedures, business practices) developed or adopted by one or more voluntary consensus bodies. The NTTAA requires Federal agencies to provide Congress, through annual reports to the OMB, with explanations when an agency does not use available and applicable VCS.

Consistent with the NTTAA, the EPA conducted a search for EPA's Method 311 (Analysis of Hazardous Air Pollutant Compounds in Paints and Coatings by Direct Injection into a Gas Chromatograph) and found no candidate VCS for use in identifying n-hexane. This rule references the National Emission Standards for Closed Vent Systems, Control Devices, Recovery Devices, and Routing to a Fuel Gas System or a Process (40 CFR part 63, subpart SS). Since there are no new technical standard requirements resulting from specifying subpart SS in this rule, and no candidate consensus standards were identified for EPA Method 311 (n-hexane), EPA is not adopting VCS in today's final rule.

Section 63.2854(b)(1) of today's final rule lists EPA Method 311. The EPA Method 311 has been used by States and industry for approximately 5 years. Nevertheless, under § 63.7(f) of 40 CFR part 63, subpart A, today's final rule allows any State or source to apply to EPA for permission to use an alternative method in lieu of EPA Method 311 listed in § 63.2854(b)(1).

I. Congressional Review Act

The Congressional Review Act, 5 U.S.C. 801, et seq., as added by the SBREFA, generally provides that before a rule may take effect, the agency promulgating the rule must submit a rule report, which includes a copy of the rule, to each House of the Congress and to the Comptroller General of the United States. Therefore, we will submit a report containing this final rule and other required information to the U.S. Senate, the U.S. House of Representatives, and the Comptroller General of the United States prior to publication of the rule in the Federal Register. A major rule cannot take effect until 60 days after it is published in the Federal Register. This final rule is not a “major rule” as defined by 5 U.S.C. 804(2), and therefore will be effective April 12, 2001.

List of Subjects in 40 CFR Part 63

Environmental protection, Administrative practice and procedure, Air pollution control, Hazardous substances, Intergovernmental relations, Reporting and recordkeeping requirements.

Dated: April 3, 2001.
Christine Todd Whitman,
Administrator.

For the reasons stated in the preamble, title 40, chapter I, part 63, of the Code of the Federal Regulations is amended as follows:

PART 63—[AMENDED]

1. The authority citation for part 63 continues to read as follows:

Authority: 42 U.S.C. 7401, et seq.

2. Part 63 is amended by adding subpart GGGG to read as follows:

Subpart GGGG—National Emission Standards for Hazardous Air Pollutants: Solvent Extraction for Vegetable Oil Production

Sec.
What This Subpart Covers
63.2830 What is the purpose of this subpart?
63.2831 Where can I find definitions of key words used in this subpart?
63.2832 Am I subject to this subpart?
63.2833 Is my source categorized as existing or new?
63.2834 When do I have to comply with the standards in this subpart?
Standards
63.2840 What emission requirements must I meet?
Compliance Requirements
63.2850 How do I comply with the hazardous air pollutant emission standards?
63.2851 What is a plan for demonstrating compliance?
63.2852 What is a startup, shutdown, and malfunction plan?
63.2853 How do I determine the actual solvent loss?
63.2854 How do I determine the weighted average volume fraction of HAP in the actual solvent loss?
63.2855 How do I determine the quantity of oilseed processed?
Notifications, Reports, and Records
63.2860 What notifications must I submit and when?
63.2861 What reports must I submit and when?
63.2862 What records must I keep?
63.2863 In what form and how long must I keep my records?
Other Requirements and Information
63.2870 What parts of the General Provisions apply to me?
63.2871 Who implements and enforces this subpart?
63.2872 What definitions apply to this subpart?

What This Subpart Covers

§ 63.2830 What is the purpose of this subpart?

This subpart establishes national emission standards for hazardous air pollutants (NESHAP) for emissions during vegetable oil production. This subpart limits hazardous air pollutant (HAP) emissions from specified vegetable oil production processes. This subpart also establishes requirements to demonstrate initial and continuous compliance with the emission standards.

§ 63.2831 Where can I find definitions of key words used in this subpart?

You can find definitions of key words used in this subpart in § 63.2872.

§ 63.2832 Am I subject to this subpart?

(a) You are an affected source subject to this subpart if you meet all of the criteria listed in paragraphs (a)(1) and (2) of this section:

(1) You own or operate a vegetable oil production process that is a major source of HAP emissions or is collocated within a plant site with other sources that are individually or collectively a major source of HAP emissions.

(i) A vegetable oil production process is defined in § 63.2872. In general, it is the collection of continuous process equipment and activities that produce crude vegetable oil and meal products by removing oil from oilseeds listed in Table 1 to § 63.2840 through direct contact with an organic solvent, such as a hexane isomer blend.

(ii) A major source of HAP emissions is a plant site that emits or has the potential to emit any single HAP at a rate of 10 tons (9.07 megagrams) or more per year or any combination of HAP at a rate of 25 tons (22.68 megagrams) or more per year.

(2) Your vegetable oil production process processes any combination of eight types of oilseeds listed in paragraphs (a)(2)(i) through (viii) of this section:

(i) Corn germ;

(ii) Cottonseed;

(iii) Flax;

(iv) Peanut;

(v) Rapeseed (for example, canola);

(vi) Safflower;

(vii) Soybean; and

(viii) Sunflower.

(b) You are not subject to this subpart if your vegetable oil production process meets any of the criteria listed in paragraphs (b)(1) through (4) of this section:

(1) It uses only mechanical extraction techniques that use no organic solvent to remove oil from a listed oilseed.

(2) It uses only batch solvent extraction and batch desolventizing equipment.

(3) It processes only agricultural products that are not listed oilseeds as defined in § 63.2872.

(4) It functions only as a research and development facility and is not a major source.

(c) As listed in § 63.1(c)(5) of the General Provisions, if your HAP emissions increase such that you become a major source, then you are subject to all of the requirements of this subpart.

§ 63.2833 Is my source categorized as existing or new?

(a) This subpart applies to each existing and new affected source. You must categorize your vegetable oil production process as either an existing or a new source in accordance with the criteria in Table 1 of this section, as follows:

Table 1 to § 63.2833.—Categorizing Your Source as Existing or New
If your affected source... | And if... | Then your affected source...
(1) was constructed or began construction before May 26, 2000 | reconstruction has not occurred | is an existing source.
(2) began reconstruction, as defined in § 63.2, on or after May 26, 2000 | (i) reconstruction was part of a scheduled plan to comply with the existing source requirements of this subpart; and (ii) reconstruction was completed no later than 3 years after the effective date of this subpart | remains an existing source.
(3) began a significant modification, as defined in § 63.2872, at any time on an existing source | the modification does not constitute reconstruction | remains an existing source.
(4) began a significant modification, as defined in § 63.2872, at any time on a new source | the modification does not constitute reconstruction | remains a new source.
(5) began reconstruction on or after May 26, 2000 | reconstruction was completed later than 3 years after the effective date of this subpart | is a new source
(6) began construction on or after May 26, 2000 |  | is a new source.

(b) Reconstruction of a source. Any affected source is reconstructed if components are replaced so that the criteria in the definition of reconstruction in § 63.2 are satisfied. In general, a vegetable oil production process is reconstructed if the fixed capital cost of the new components exceeds 50 percent of the fixed capital cost for constructing a new vegetable oil production process, and it is technically and economically feasible for the reconstructed source to meet the relevant new source requirements of this subpart. The effect of reconstruction on the categorization of your existing and new affected source is described in paragraphs (b)(1) and (2) of this section:

(1) After reconstruction of an existing source, the affected source is recategorized as a new source and becomes subject to the new source requirements of this subpart.

(2) After reconstruction of a new source, the affected source remains categorized as a new source and remains subject to the new source requirements of this subpart.

(c) Significant modification of a source. A significant modification to an affected source is a term specific to this subpart and is defined in § 63.2872.

(1) In general, a significant modification to your source consists of adding new equipment or the modification of existing equipment within the affected source that significantly affects solvent losses from the affected source. Examples include adding or replacing extractors, desolventizer-toasters (conventional and specialty), and meal dryer-coolers. All other significant modifications must meet the criteria listed in paragraphs (c)(1)(i) and (ii) of this section:

(i) The fixed capital cost of the modification represents a significant percentage of the fixed capital cost of building a comparable new vegetable oil production process.

(ii) It does not constitute reconstruction as defined in § 63.2.

(2) A significant modification has no effect on the categorization of your source as existing and new. An existing source remains categorized as an existing source and subject to the existing source requirements of this subpart. A new source remains categorized as a new source and subject to the new source requirements of this subpart.

(d) Changes in the type of oilseed processed by your affected source does not affect the categorization of your source as new or existing. Recategorizing an affected source from existing to new occurs only when you add or modify process equipment within the source which meets the definition of reconstruction.

§ 63.2834 When do I have to comply with the standards in this subpart?

You must comply with this subpart in accordance with one of the schedules in Table 1 of this section, as follows:

Table 1 of § 63.2834.—Compliance Dates for Existing and New Sources
If your affected source is categorized as... | And if... | Then your compliance date is...
(a) an existing source |  | 3 years after the effective date of this subpart.
(b) a new source | you startup your affected source before the effective date of this subpart | the effective date of this subpart.
(c) a new source | you startup your affected source on or after the effective date of this subpart | your startup date.

Standards

§ 63.2840 What emission requirements must I meet?

(a)(1) The emission requirements limit the number of gallons of HAP lost per ton of listed oilseeds processed. For each operating month, you must calculate a compliance ratio which compares your actual HAP loss to your allowable HAP loss for the previous 12 operating months as shown in Equation 1 of this section. An operating month, as defined in § 63.2872, is any calendar month in which a source processes a listed oilseed, excluding any entire calendar month in which the source operated under an initial startup period subject to § 63.2850(c)(2) or (d)(2) or a malfunction period subject to § 63.2850(e)(2). Equation 1 of this section follows:

(2) Equation 1 of this section can also be expressed as a function of total solvent loss as shown in Equation 2 of this section. Equation 2 of this section follows:

Where:

f = The weighted average volume fraction of HAP in solvent received during the previous 12 operating months, as determined in § 63.2854, dimensionless.

0.64 = The average volume fraction of HAP in solvent in the baseline performance data, dimensionless.

Actual Solvent Loss = Gallons of actual solvent loss during previous 12 operating months, as determined in § 63.2853.

Oilseed = Tons of each oilseed type “i” processed during the previous 12 operating months, as shown in § 63.2855.

SLF = The corresponding solvent loss factor (gal/ton) for oilseed “i” listed in Table 1 of this section, as follows:

Table 1 of § 63.2840.—Oilseed Solvent Loss Factors for Determining Allowable HAP Loss
Type of oilseed process | A source that... | Oilseed solvent loss factor (gal/ton): Existing sources | Oilseed solvent loss factor (gal/ton): New sources
(i) Corn Germ, Wet Milling | processes corn germ that has been separated from other corn components using a “wet” process of centrifuging a slurry steeped in a dilute sulfurous acid solution | 0.4 | 0.3
(ii) Corn Germ, Dry Milling | processes corn germ that has been separated from the other corn components using a “dry” process of mechanical chafing and air sifting | 0.7 | 0.7
(iii) Cottonseed, Large | processes 120,000 tons or more of a combination of cottonseed and other listed oilseeds during all normal operating periods in a 12 operating month period | 0.5 | 0.4
(iv) Cottonseed, Small | processes less than 120,000 tons of a combination of cottonseed and other listed oilseeds during all normal operating periods in a 12 operating month period | 0.7 | 0.4
(v) Flax | processes flax | 0.6 | 0.6
(vi) Peanuts | processes peanuts | 1.2 | 0.7
(vii) Rapeseed | processes rapeseed | 0.7 | 0.3
(viii) Safflower | processes safflower | 0.7 | 0.7
(ix) Soybean, Conventional | uses a conventional style desolventizer to produce crude soybean oil products and soybean animal feed products | 0.2 | 0.2
(x) Soybean, Specialty | uses a special style desolventizer to produce soybean meal products for human and animal consumption | 1.7 | 1.5
(xi) Soybean, Combination Plant with Low Specialty Production | processes soybeans in both specialty and conventional desolventizers and the quantity of soybeans processed in specialty desolventizers during normal operating periods is less than 3.3 percent of total soybeans processed during all normal operating periods in a 12 operating month period. The corresponding solvent loss factor is an overall value and applies to the total quantity of soybeans processed. | 0.25 | 0.25
(xii) Sunflower | processes sunflower | 0.4 | 0.3

(b) When your source has processed listed oilseed for 12 operating months, calculate the compliance ratio by the end of each calendar month following an operating month using Equation 2 of this section. When calculating your compliance ratio, consider the conditions and exclusions in paragraphs (b)(1) through (6) of this section:

(1) If your source processes any quantity of listed oilseeds in a calendar month and the source is not operating under an initial startup period or malfunction period subject to § 63.2850, then you must categorize the month as an operating month, as defined in § 63.2872.

(2) The 12-month compliance ratio may include operating months occurring prior to a source shutdown and operating months that follow after the source resumes operation.

(3) If your source shuts down and processes no listed oilseed for an entire calendar month, then you must categorize the month as a nonoperating month, as defined in § 63.2872. Exclude any nonoperating months from the compliance ratio determination.

(4) If your source is subject to an initial startup period as defined in § 63.2872, exclude from the compliance ratio determination any solvent and oilseed information recorded for the initial startup period.

(5) If your source is subject to a malfunction period as defined in § 63.2872, exclude from the compliance ratio determination any solvent and oilseed information recorded for the malfunction period.

(6) For sources processing cottonseed or specialty soybean, the solvent loss factor you use to determine the compliance ratio may change each operating month depending on the tons of oilseed processed during all normal operating periods in a 12 operating month period.

(c) If the compliance ratio is less than or equal to 1.00, your source was in compliance with the HAP emission requirements for the previous operating month.

(d) To determine the compliance ratio in Equation 2 of this section, you must select the appropriate oilseed solvent loss factor from Table 1 of this section. First, determine whether your source is new or existing using Table 1 of § 63.2833. Then, under the appropriate existing or new source column, select the oilseed solvent loss factor that corresponds to each type oilseed or process operation for each operating month.

Compliance Requirements

§ 63.2850 How do I comply with the hazardous air pollutant emission standards?

(a) General requirements. The requirements in paragraphs (a)(1)(i) through (iv) of this section apply to all affected sources:

(1) Submit the necessary notifications in accordance with § 63.2860, which include:

(i) Initial notifications for existing sources.

(ii) Initial notifications for new and reconstructed sources.

(iii) Initial notifications for significant modifications to existing or new sources.

(iv) Notification of compliance status.

(2) Develop and implement a plan for demonstrating compliance in accordance with § 63.2851.

(3) Develop a written startup, shutdown and malfunction (SSM) plan in accordance with the provisions in § 63.2852.

(4) Maintain all the necessary records you have used to demonstrate compliance with this subpart in accordance with § 63.2862.

(5) Submit the reports in paragraphs (a)(5)(i) through (iii) of this section:

(i) Annual compliance certifications in accordance with § 63.2861(a).

(ii) Periodic SSM reports in accordance with § 63.2861(c).

(iii) Immediate SSM reports in accordance with § 63.2861(d).

(6) Submit all notifications and reports and maintain all records required by the General Provisions for performance testing if you add a control device that destroys solvent.

(b) Existing sources under normal operation. You must meet all of the requirements listed in paragraph (a) of this section and Table 1 of this section for sources under normal operation, and the schedules for demonstrating compliance for existing sources under normal operation in Table 2 of this section.

(c) New sources. Your new source, including a source that is categorized as new due to reconstruction, must meet the requirements associated with one of two compliance options. Within 15 days of the startup date, you must choose to comply with one of the options listed in paragraph (c)(1) or (2) of this section:

(1) Normal operation. Upon startup of your new source, you must meet all of the requirements listed in § 63.2850(a) and Table 1 of this section for sources under normal operation, and the schedules for demonstrating compliance for new sources under normal operation in Table 2 of this section.

(2) Initial startup period. For up to 6 calendar months after the startup date of your new source, you must meet all of the requirements listed in paragraph (a) of this section and Table 1 of this section for sources operating under an initial startup period, and the schedules for demonstrating compliance for new sources operating under an initial startup period in Table 2 of this section. After a maximum of 6 calendar months, your new source must then meet all of the requirements listed in Table 1 of this section for sources under normal operation.

(d) Existing or new sources that have been significantly modified. Your existing or new source that has been significantly modified must meet the requirements associated with one of two compliance options. Within 15 days of the modified source startup date, you must choose to comply with one of the options listed in paragraph (d)(1) or (2) of this section:

(1) Normal operation. Upon startup of your significantly modified existing or new source, you must meet all of the requirements listed in paragraph (a) of this section and Table 1 of this section for sources under normal operation, and the schedules for demonstrating compliance for an existing or new source that has been significantly modified in Table 2 of this section.

(2) Initial startup period. For up to 3 calendar months after the startup date of your significantly modified existing or new source, you must meet all of the requirements listed in paragraph (a) of this section and Table 1 of this section for sources operating under an initial startup period, and the schedules for demonstrating compliance for a significantly modified existing or new source operating under an initial startup period in Table 2 of this section. After a maximum of 3 calendar months, your new or existing source must meet all of the requirements listed in Table 1 of this section for sources under normal operation.

(e) Existing or new sources experiencing a malfunction. A malfunction is defined in § 63.2. In general, it means any sudden, infrequent, and not reasonably preventable failure of air pollution control equipment or process equipment to function in a usual manner. If your existing or new source experiences an unscheduled shutdown as a result of a malfunction, continues to operate during a malfunction (including the period reasonably necessary to correct the malfunction), or starts up after a shutdown resulting from a malfunction, then you must meet the requirements associated with one of two compliance options. Routine or scheduled process startups and shutdowns resulting from, but not limited to, market demands, maintenance activities, and switching types of oilseed processed, are not startups or shutdowns resulting from a malfunction and, therefore, do not qualify for this provision. Within 15 days of the beginning date of the malfunction, you must choose to comply with one of the options listed in paragraphs (e)(1) through (2) of this section:

(1) Normal operation. Your source must meet all of the requirements listed in paragraph (a) of this section and one of the options listed in paragraphs (e)(1)(i) through (iii) of this section:

(i) Existing source normal operation requirements in paragraph (b) of this section.

(ii) New source normal operation requirements in paragraph (c)(1) of this section.

(iii) Normal operation requirements for sources that have been significantly modified in paragraph (d)(1) of this section.

(2) Malfunction period. Throughout the malfunction period, you must meet all of the requirements listed in paragraph (a) of this section and Table 1 of this section for sources operating during a malfunction period. At the end of the malfunction period, your source must then meet all of the requirements listed in Table 1 of this section for sources under normal operation. Table 1 of this section follows:

Table 1 of § 63.2850.—Requirements for Compliance with HAP Emission Standards
Are you required to . . . | For periods of normal operation? | For initial startup periods subject to § 63.2850(c)(2) or (d)(2)? | For malfunction periods subject to § 63.2850(e)(2)?
(a) Operate and maintain your source in accordance with your SSM plan as described in § 63.2852? | No, your source is not subject to the SSM plan, but rather the HAP emission limits of this standard | Yes, throughout the entire initial startup period | Yes, throughout the entire malfunction period.
(b) Determine and record the extraction solvent loss in gallons from your source? | Yes, as described in § 63.2853 | Yes, as described in § 63.2862(e) | Yes, as described in § 63.2862(e).
(c) Record the volume fraction of HAP present at greater than 1 percent by volume and gallons of extraction solvent in shipment received? | Yes | Yes | Yes.
(d) Determine and record the tons of each oilseed type processed by your source? | Yes, as described in § 63.2855 | No | No.
(e) Determine the weighted average volume fraction of HAP in extraction solvent received as described in § 63.2854 by the end of the following calendar month? | Yes | No. Except for solvent received by a new or reconstructed source commencing operation under an initial startup period, the HAP volume fraction in any solvent received during an initial startup period is included in the weighted average HAP determination for the next operating month | No, the HAP volume fraction in any solvent received during a malfunction period is included in the weighted average HAP determination for the next operating month.
(f) Determine and record the actual solvent loss, weighted average volume fraction HAP, oilseed processed and compliance ratio for each 12 operating month period as described in § 63.2840 by the end of the following calendar month? | Yes, | No, these requirements are not applicable because your source is not required to determine the compliance ratio with data recorded for an initial startup period | No, these requirements are not applicable because your source is not required to determine the compliance ratio with data recorded for a malfunction period.
(g) Submit a Notification of Compliance Status or Annual Compliance Certification as appropriate? | Yes, as described in §§ 63.2860(d) and 63.2861(a) | No. However, you may be required to submit an annual compliance certification for previous operating months, if the deadline for the annual compliance certification happens to occur during the initial startup period | No. However, you may be required to submit an annual compliance certification for previous operating months, if the deadline for the annual compliance certification happens to occur during the malfunction period.
(h) Submit a Deviation Notification Report by the end of the calendar month following the month in which you determined that the compliance ratio exceeds 1.00 as described in § 63.2861(b)? | Yes | No, these requirements are not applicable because your source is not required to determine the compliance ratio with data recorded for an initial startup period | No, these requirements are not applicable because your source is not required to determine the compliance ratio with data recorded for a malfunction period.
(i) Submit a Periodic SSM Report as described in § 63.2861(c)? | No, a SSM activity is not categorized as normal operation | Yes | Yes.
(j) Submit an Immediate SSM Report as described in § 63.2861(d)? | No, a SSM activity is not categorized as normal operation | Yes, only if your source does not follow the SSM plan | Yes, only if your source does not follow the SSM plan.

Table 2 of § 63.2850.—Schedules for Demonstrating Compliance Under Various Source Operating Modes
If your source is . . . | and is operating under. . . | then your recordkeeping schedule. . . | You must determine your first compliance ratio by the end of the calendar month following. . . | Base your first compliance ratio on information recorded. . .
(a) Existing | Normal operation | Begins on the compliance date | The first 12 operating months after the compliance date | During the first 12 operating months after the compliance date.
(b) New | (1) Normal operation | Begins on the startup date of your new source | The first 12 operating months after the startup date of the new source | During the first 12 operating months after the startup date of the new source.
| (2) An initial startup period | Begins on the startup date of your new source | The first 12 operating months after termination of the initial startup period, which can last for up to 6 months | During the first 12 operating months after the initial startup period, which can last for up to 6 months.
(c) Existing or new that has been significantly modified | (1) Normal operation | Resumes on the startup date of the modified source | The first operating month after the startup date of the modified source | During the previous 11 operating months prior to the significant modification and the first operating month following the initial startup date of the source.
| (2) An initial startup period | Resumes on the startup date of the modified source | The first operating month after termination of the initial startup period, which can last up to 3 months | During the 11 operating months before the significant modification and the first operating month after the initial startup period.

§ 63.2851 What is a plan for demonstrating compliance?

(a) You must develop and implement a written plan for demonstrating compliance that provides the detailed procedures you will follow to monitor and record data necessary for demonstrating compliance with this subpart. Procedures followed for quantifying solvent loss from the source and amount of oilseed processed vary from source to source because of site-specific factors such as equipment design characteristics and operating conditions. Typical procedures include one or more accurate measurement methods such as weigh scales, volumetric displacement, and material mass balances. Because the industry does not have a uniform set of procedures, you must develop and implement your own site-specific plan for demonstrating compliance before the compliance date for your source. You must also incorporate the plan for demonstrating compliance by reference in the source's title V permit and keep the plan on-site and readily available as long as the source is operational. If you make any changes to the plan for demonstrating compliance, then you must keep all previous versions of the plan and make them readily available for inspection for at least 5 years after each revision. The plan for demonstrating compliance must include the items in paragraphs (a)(1) through (7) of this section:

(1) The name and address of the owner or operator.

(2) The physical address of the vegetable oil production process.

(3) A detailed description of all methods of measurement your source will use to determine your solvent losses, HAP content of solvent, and the tons of each type of oilseed processed.

(4) When each measurement will be made.

(5) Examples of each calculation you will use to determine your compliance status. Include examples of how you will convert data measured with one parameter to other terms for use in compliance determination.

(6) Example logs of how data will be recorded.

(7) A plan to ensure that the data continue to meet compliance demonstration needs.

(b) The responsible agency of these NESHAP may require you to revise your plan for demonstrating compliance. The responsible agency may require reasonable revisions if the procedures lack detail, are inconsistent or do not accurately determine solvent loss, HAP content of the solvent, or the tons of oilseed processed.

§ 63.2852 What is a startup, shutdown, and malfunction plan?

You must develop a written SSM plan in accordance with § 63.6(e)(3) and implement the plan, when applicable. You must complete the SSM plan before the compliance date for your source. You must also incorporate the SSM plan by reference in your source's title V permit and keep the SSM plan on-site and readily available as long as the source is operational. The SSM plan provides detailed procedures for operating and maintaining your source to minimize emissions during a qualifying SSM event for which the source chooses the § 63.2850(e)(2) malfunction period, or the § 63.2850(c)(2) or (d)(2) initial startup period. The SSM plan must specify a program of corrective action for malfunctioning process and air pollution control equipment and reflect the best practices now in use by the industry to minimize emissions. Some or all of the procedures may come from plans you developed for other purposes such as a Standard Operating Procedure manual or an Occupational Safety and Health Administration Process Safety Management plan. To qualify as a SSM plan, other such plans must meet all the applicable requirements of these NESHAP.

§ 63.2853 How do I determine the actual solvent loss?

By the end of each calendar month following an operating month, you must determine the total solvent loss in gallons for the previous operating month. The total solvent loss for an operating month includes all solvent losses that occur during normal operating periods within the operating month. If you have determined solvent losses for 12 or more operating months, then you must also determine the 12 operating months rolling sum of actual solvent loss in gallons by summing the monthly actual solvent loss for the previous 12 operating months. The 12 operating months rolling sum of solvent loss is the “actual solvent loss,” which is used to calculate your compliance ratio as described in § 63.2840.

(a) To determine the actual solvent loss from your source, follow the procedures in your plan for demonstrating compliance to determine the items in paragraphs (a)(1) through (7) of this section:

(1) The dates that define each operating status period during a calendar month. The dates that define each operating status period include the beginning date of each calendar month and the date of any change in the source operating status. If the source maintains the same operating status during an entire calendar month, these dates are the beginning and ending dates of the calendar month. If, prior to the effective date of this rule, your source determines the solvent loss on an accounting month, as defined in § 63.2872, rather than a calendar month basis, and you have 12 complete accounting months of approximately equal duration in a calendar year, you may substitute the accounting month time interval for the calendar month time interval. If you choose to use an accounting month rather than a calendar month, you must document this measurement frequency selection in your plan for demonstrating compliance, and you must remain on this schedule unless you request and receive written approval from the agency responsible for these NESHAP.

(2) Source operating status. You must categorize the operating status of your source for each recorded time interval in accordance with criteria in Table 1 of this section, as follows:

Table 1 of § 63.2853.—Categorizing Your Source Operating Status
If during a recorded time interval . . . | then your source operating status is . . .
(i) Your source processes any amount of listed oilseed and source is not operating under an initial startup operating period or a malfunction period subject to § 63.2850(c)(2), (d)(2), or (e)(2) | A normal operating period.
(ii) Your source processes no agricultural product and your source is not operating under an initial startup period or malfunction period subject to § 63.2850(c)(2), (d)(2), or (e)(2) | A nonoperating period.
(iii) You choose to operate your source under an initial startup period subject to § 63.2850(c)(2) or (d)(2) | An initial startup period.
(iv) You choose to operate your source under a malfunction period subject to § 63.2850(e)(2) | A malfunction period.
(v) Your source processes agricultural products not defined as listed oilseed | An exempt period.

(3) Measuring the beginning and ending solvent inventory. You are required to measure and record the solvent inventory on the beginning and ending dates of each normal operating period that occurs during an operating month. An operating month is any calendar month with at least one normal operating period. You must consistently follow the procedures described in your plan for demonstrating compliance, as specified in § 63.2851, to determine the extraction solvent inventory, and maintain readily available records of the actual solvent loss inventory, as described in § 63.2862(c)(1). In general, you must measure and record the solvent inventory only when the source is actively processing any type of agricultural product. When the source is not active, some or all of the solvent working capacity is transferred to solvent storage tanks which can artificially inflate the solvent inventory.

(4) Gallons of extraction solvent received. Record the total gallons of extraction solvent received in each shipment. For most processes, the gallons of solvent received represents purchases of delivered solvent added to the solvent storage inventory. However, if your process refines additional vegetable oil from off-site sources, recovers solvent from the off-site oil, and adds it to the on-site solvent inventory, then you must determine the quantity of recovered solvent and include it in the gallons of extraction solvent received.

(5) Solvent inventory adjustments. In some situations, solvent losses determined directly from the measured solvent inventory and quantity of solvent received is not an accurate estimate of the “actual solvent loss” for use in determining compliance ratios. In such cases, you may adjust the total solvent loss for each normal operating period as long as you provide a reasonable justification for the adjustment. Situations that may require adjustments of the total solvent loss include, but are not limited to, situations in paragraphs (a)(5)(i) and (ii) of this section:

(i) Solvent destroyed in a control device. You may use a control device to reduce solvent emissions to meet the emission standard. The use of a control device does not alter the emission limit for the source. If you use a control device that reduces solvent emissions through destruction of the solvent instead of recovery, then determine the gallons of solvent that enter the control device and are destroyed there during each normal operating period. All solvent destroyed in a control device during a normal operating period can be subtracted from the total solvent loss. Examples of destructive emission control devices include catalytic incinerators, boilers, or flares. Identify and describe, in your plan for demonstrating compliance, each type of reasonable and sound measurement method that you use to quantify the gallons of solvent entering and exiting the control device and to determine the destruction efficiency of the control device. You may use design evaluations to document the gallons of solvent destroyed or removed by the control device instead of performance testing under § 63.7. The design evaluations must be based on the procedures and options described in § 63.985(b)(1)(i)(A) through (C) or § 63.11, as appropriate. All data, assumptions, and procedures used in such evaluations must be documented and available for inspection. If you use performance testing to determine solvent flow rate to the control device or destruction efficiency of the device, follow the procedures as outlined in § 63.997(e)(1) and (2). Instead of periodic performance testing to demonstrate continued good operation of the control device, you may develop a monitoring plan, following the procedures outlined in § 63.988(c) and using operational parametric measurement devices such as fan parameters, percent measurements of lower explosive limits, and combustion temperature.

(ii) Changes in solvent working capacity. In records you keep on-site, document any process modifications resulting in changes to the solvent working capacity in your vegetable oil production process. Solvent working capacity is defined in § 63.2872. In general, solvent working capacity is the volume of solvent normally retained in solvent recovery equipment such as the extractor, desolventizer-toaster, solvent storage, working tanks, mineral oil absorber, condensers, and oil/solvent distillation system. If the change occurs during a normal operating period, you must determine the difference in working solvent volume and make a one-time documented adjustment to the solvent inventory.

(b) Use Equation 1 of this section to determine the actual solvent loss occurring from your affected source for all normal operating periods recorded within a calendar month. Equation 1 of this section follows:

Where:

SOLVB = Gallons of solvent in the inventory at the beginning of normal operating period “i” as determined in paragraph (a)(3) of this section.

SOLVE = Gallons of solvent in the inventory at the end of normal operating period “i” as determined in paragraph (a)(3) of this section.

SOLVR = Gallons of solvent received between the beginning and ending inventory dates of normal operating period “i” as determined in paragraph (a)(4) of this section.

SOLVA = Gallons of solvent added or removed from the extraction solvent inventory during normal operating period “i” as determined in paragraph (a)(5) of this section.

n = Number of normal operating periods in a calendar month.

(c) The actual solvent loss is the total solvent losses during normal operating periods for the previous 12 operating months. You determine your actual solvent loss by summing the monthly actual solvent losses for the previous 12 operating months. You must record the actual solvent loss by the end of each calendar month following an operating month. Use the actual solvent loss in Equation 2 of § 63.2840 to determine the compliance ratio. Actual solvent loss does not include losses that occur during operating status periods listed in paragraphs (c)(1) through (4) of this section. If any one of these four operating status periods span an entire month, then the month is treated as nonoperating and there is no compliance ratio determination.

(1) Nonoperating periods as described in paragraph (a)(2)(ii) of this section.

(2) Initial startup periods as described in § 63.2850(c)(2) or (d)(2).

(3) Malfunction periods as described in § 63.2850(e)(2).

(4) Exempt operation periods as described in paragraph (a)(2)(v) of this section.

§ 63.2854 How do I determine the weighted average volume fraction of HAP in the actual solvent loss?

(a) This section describes the information and procedures you must use to determine the weighted average volume fraction of HAP in extraction solvent received for use in your vegetable oil production process. By the end of each calendar month following an operating month, determine the weighted average volume fraction of HAP in extraction solvent received since the end of the previous operating month. If you have determined the monthly weighted average volume fraction of HAP in solvent received for 12 or more operating months, then also determine an overall weighted average volume fraction of HAP in solvent received for the previous 12 operating months. Use the volume fraction of HAP determined as a 12 operating months weighted average in Equation 2 of § 63.2840 to determine the compliance ratio.

(b) To determine the volume fraction of HAP in the extraction solvent determined as a 12 operating months weighted average, you must comply with paragraphs (b)(1) through (3) of this section:

(1) Record the volume fraction of each HAP comprising more than 1 percent by volume of the solvent in each delivery of solvent, including solvent recovered from off-site oil. To determine the HAP content of the material in each delivery of solvent, the reference method is EPA Method 311 of appendix A of this part. You may use EPA Method 311, an approved alternative method, or any other reasonable means for determining the HAP content. Other reasonable means of determining HAP content include, but are not limited to, a material safety data sheet or a manufacturer's certificate of analysis. A certificate of analysis is a legal and binding document provided by a solvent manufacturer. The purpose of a certificate of analysis is to list the test methods and analytical results that determine chemical properties of the solvent and the volume percentage of all HAP components present in the solvent at quantities greater than 1 percent by volume. You are not required to test the materials that you use, but the Administrator may require a test using EPA Method 311 (or an approved alternative method) to confirm the reported HAP content. However, if the results of an analysis by EPA Method 311 are different from the HAP content determined by another means, the EPA Method 311 results will govern compliance determinations.

(2) Determine the weighted average volume fraction of HAP in the extraction solvent each operating month. The weighted average volume fraction of HAP for an operating month includes all solvent received since the end of the last operating month, regardless of the operating status at the time of the delivery. Determine the monthly weighted average volume fraction of HAP by summing the products of the HAP volume fraction of each delivery and the volume of each delivery and dividing the sum by the total volume of all deliveries as expressed in Equation 1 of this section. Record the result by the end of each calendar month following an operating month. Equation 1 of this section follows:

Where:

Receivedi = Gallons of extraction solvent received in delivery “i.”

Contenti = The volume fraction of HAP in extraction solvent delivery “i.”

Total Received = Total gallons of extraction solvent received since the end of the previous operating month.

n = Number of extraction solvent deliveries since the end of the previous operating month.

(3) Determine the volume fraction of HAP in your extraction solvent as a 12 operating months weighted average. When your source has processed oilseed for 12 operating months, sum the products of the monthly weighted average HAP volume fraction and corresponding volume of solvent received, and divide the sum by the total volume of solvent received for the 12 operating months, as expressed by Equation 2 of this section. Record the result by the end of each calendar month following an operating month and use it in Equation 2 of § 63.2840 to determine the compliance ratio. Equation 2 of this section follows:

Where:

Receivedi = Gallons of extraction solvent received in operating month “i” as determined in accordance with § 63.2853(a)(4).

Contenti = Average volume fraction of HAP in extraction solvent received in operating month “i” as determined in accordance with paragraph (b)(1) of this section.

Total Received = Total gallons of extraction solvent received during the previous 12 operating months.

§ 63.2855 How do I determine the quantity of oilseed processed?

All oilseed measurements must be determined on an as received basis, as defined in § 63.2872. The as received basis refers to the oilseed chemical and physical characteristics as initially received by the source and prior to any oilseed handling and processing. By the end of each calendar month following an operating month, you must determine the tons as received of each listed oilseed processed for the operating month. The total oilseed processed for an operating month includes the total of each oilseed processed during all normal operating periods that occur within the operating month. If you have determined the tons of oilseed processed for 12 or more operating months, then you must also determine the 12 operating months rolling sum of each type oilseed processed by summing the tons of each type of oilseed processed for the previous 12 operating months. The 12 operating months rolling sum of each type of oilseed processed is used to calculate the compliance ratio as described in § 63.2840.

(a) To determine the tons as received of each type of oilseed processed at your source, follow the procedures in your plan for demonstrating compliance to determine the items in paragraphs (a)(1) through (5) of this section:

(1) The dates that define each operating status period. The dates that define each operating status period include the beginning date of each calendar month and the date of any change in the source operating status. If, prior to the effective date of this rule, your source determines the oilseed inventory on an accounting month rather than a calendar month basis, and you have 12 complete accounting months of approximately equal duration in a calendar year, you may substitute the accounting month time interval for the calendar month time interval. If you choose to use an accounting month rather than a calendar month, you must document this measurement frequency selection in your plan for demonstrating compliance, and you must remain on this schedule unless you request and receive written approval from the agency responsible for these NESHAP. The dates on each oilseed inventory log must be consistent with the dates recorded for the solvent inventory.

(2) Source operating status. You must categorize the source operation for each recorded time interval. The source operating status for each time interval recorded on the oilseed inventory for each type of oilseed must be consistent with the operating status recorded on the solvent inventory logs as described in § 63.2853(a)(2).

(3) Measuring the beginning and ending inventory for each oilseed. You are required to measure and record the oilseed inventory on the beginning and ending dates of each normal operating period that occurs during an operating month. An operating month is any calendar month with at least one normal operating period. You must consistently follow the procedures described in your plan for demonstrating compliance, as specified in § 63.2851, to determine the oilseed inventory on an as received basis and maintain readily available records of the oilseed inventory as described by § 63.2862(c)(3).

(4) Tons of each oilseed received. Record the type of oilseed and tons of each shipment of oilseed received and added to your on-site storage.

(5) Oilseed inventory adjustments. In some situations, determining the quantity of oilseed processed directly from the measured oilseed inventory and quantity of oilseed received is not an accurate estimate of the tons of oilseed processed for use in determining compliance ratios. For example, spoiled and molded oilseed removed from storage but not processed by your source will result in an overestimate of the quantity of oilseed processed. In such cases, you must adjust the oilseed inventory and provide a justification for the adjustment. Situations that may require oilseed inventory adjustments include, but are not limited to, the situations listed in paragraphs (a)(5)(i) through (v) of this section:

(i) Oilseed that mold or otherwise become unsuitable for processing.

(ii) Oilseed you sell before it enters the processing operation.

(iii) Oilseed destroyed by an event such as a process malfunction, fire, or natural disaster.

(iv) Oilseed processed through operations prior to solvent extraction such as screening, dehulling, cracking, drying, and conditioning; but that are not routed to the solvent extractor for further processing.

(v) Periodic physical measurements of inventory. For example, some sources periodically empty oilseed storage silos to physically measure the current oilseed inventory. This periodic measurement procedure typically results in a small inventory correction. The correction factor, usually less than 1 percent, may be used to make an adjustment to the source's oilseed inventory that was estimated previously with indirect measurement techniques. To make this adjustment, your plan for demonstrating compliance must provide for such an adjustment.

(b) Use Equation 1 of this section to determine the quantity of each oilseed type processed at your affected source during normal operating periods recorded within a calendar month. Equation 1 of this section follows:

Where:

SEEDB = Tons of oilseed in the inventory at the beginning of normal operating period “i” as determined in accordance with paragraph (a)(3) of this section.

SEEDE = Tons of oilseed in the inventory at the end of normal operating period “i” as determined in accordance with paragraph (a)(3) of this section.

SEEDR = Tons of oilseed received during normal operating period “i” as determined in accordance with paragraph (a)(4) of this section.

SEEDA = Tons of oilseed added or removed from the oilseed inventory during normal operating period “i” as determined in accordance with paragraph (a)(5) of this section.

n = Number of normal operating periods in the calendar month during which this type oilseed was processed.

(c) The quantity of each oilseed processed is the total tons of each type of listed oilseed processed during normal operating periods in the previous 12 operating months. You determine the tons of each oilseed processed by summing the monthly quantity of each oilseed processed for the previous 12 operating months. You must record the 12 operating months quantity of each type of oilseed processed by the end of each calendar month following an operating month. Use the 12 operating months quantity of each type of oilseed processed to determine the compliance ratio as described in § 63.2840. The quantity of oilseed processed does not include oilseed processed during the operating status periods in paragraphs (c)(1) through (4) of this section:

(1) Nonoperating periods as described in § 63.2853 (a)(2)(ii).

(2) Initial startup periods as described in § 63.2850(c)(2) or (d)(2).

(3) Malfunction periods as described in § 63.2850(e)(2).

(4) Exempt operation periods as described in § 63.2853 (a)(2)(v).

(5) If any one of these four operating status periods span an entire calendar month, then the calendar month is treated as a nonoperating month and there is no compliance ratio determination.

Notifications, Reports, and Records

§ 63.2860 What notifications must I submit and when?

You must submit the one-time notifications listed in paragraphs (a) through (d) of this section to the responsible agency:

(a) Initial notification for existing sources. For an existing source, submit an initial notification to the agency responsible for these NESHAP no later than 120 days after the effective date of this subpart. In the notification, include the items in paragraphs (a)(1) through (5) of this section:

(1) The name and address of the owner or operator.

(2) The physical address of the vegetable oil production process.

(3) Identification of the relevant standard, such as the vegetable oil production NESHAP, and compliance date.

(4) A brief description of the source including the types of listed oilseeds processed, nominal operating capacity, and type of desolventizer(s) used.

(5) A statement designating the source as a major source of HAP or a demonstration that the source meets the definition of an area source. An area source is a source that is not a major source and is not collocated within a plant site with other sources that are individually or collectively a major source.

(b) Initial notifications for new and reconstructed sources. New or reconstructed sources must submit a series of notifications before, during, and after source construction per the schedule listed in § 63.9. The information requirements for the notifications are the same as those listed in the General Provisions with the exceptions listed in paragraphs (b)(1) and (2) of this section:

(1) The application for approval of construction does not require the specific HAP emission data required in § 63.5(d)(1)(ii)(H) and (iii), (d)(2) and (d)(3)(ii). The application for approval of construction would include, instead, a brief description of the source including the types of listed oilseeds processed, nominal operating capacity, and type of desolventizer(s) used.

(2) The notification of actual startup date must also include whether you have elected to operate under an initial startup period subject to § 63.2850(c)(2) and provide an estimate and justification for the anticipated duration of the initial startup period.

(c) Significant modification notifications. Any existing or new source that plans to undergo a significant modification as defined in § 63.2872 must submit two reports as described in paragraphs (c)(1) and (2) of this section:

(1) Initial notification. You must submit an initial notification to the agency responsible for these NESHAP 30 days prior to initial startup of the significantly modified source. The initial notification must demonstrate that the proposed changes qualify as a significant modification. The initial notification must include the items in paragraphs (c)(1)(i) and (ii) of this section:

(i) The expected startup date of the modified source.

(ii) A description of the significant modification including a list of the equipment that will be replaced or modified. If the significant modification involves changes other than adding or replacing extractors, desolventizer-toasters (conventional and specialty), and meal dryer-coolers, then you must also include the fixed capital cost of the new components, expressed as a percentage of the fixed capital cost to build a comparable new vegetable oil production process; supporting documentation for the cost estimate; and documentation that the proposed changes will significantly affect solvent losses.

(2) Notification of actual startup. You must submit a notification of actual startup date within 15 days after initial startup of the modified source. The notification must include the items in paragraphs (c)(2)(i) through (iv) of this section:

(i) The initial startup date of the modified source.

(ii) An indication whether you have elected to operate under an initial startup period subject to § 63.2850(d)(2).

(iii) The anticipated duration of any initial startup period.

(iv) A justification for the anticipated duration of any initial startup period.

(d) Notification of compliance status. As an existing, new, or reconstructed source, you must submit a notification of compliance status report to the responsible agency no later than 60 days after determining your initial 12 operating months compliance ratio. If you are an existing source, you generally must submit this notification no later than 50 calendar months after the effective date of these NESHAP (36 calendar months for compliance, 12 operating months to record data, and 2 calendar months to complete the report). If you are a new or reconstructed source, the notification of compliance status is generally due no later than 20 calendar months after initial startup (6 calendar months for the initial startup period, 12 operating months to record data, and 2 calendar months to complete the report). The notification of compliance status must contain the items in paragraphs (d)(1) through (6) of this section:

(1) The name and address of the owner or operator.

(2) The physical address of the vegetable oil production process.

(3) Each listed oilseed type processed during the previous 12 operating months.

(4) Each HAP identified under § 63.2854(a) as being present in concentrations greater than 1 percent by volume in each delivery of solvent received during the 12 operating months period used for the initial compliance determination.

(5) A statement designating the source as a major source of HAP or a demonstration that the source qualifies as an area source. An area source is a source that is not a major source and is not collocated within a plant site with other sources that are individually or collectively a major source.

(6) A compliance certification indicating whether the source complied with all of the requirements of this subpart throughout the 12 operating months used for the initial source compliance determination. This certification must include a certification of the items in paragraphs (d)(6)(i) through (iii) of this section:

(i) The plan for demonstrating compliance (as described in § 63.2851) and SSM plan (as described in § 63.2852) are complete and available on-site for inspection.

(ii) You are following the procedures described in the plan for demonstrating compliance.

(iii) The compliance ratio is less than or equal to 1.00.

§ 63.2861 What reports must I submit and when?

After the initial notifications, you must submit the reports in paragraphs (a) through (d) of this section to the agency responsible for these NESHAP at the appropriate time intervals:

(a) Annual compliance certifications. The first annual compliance certification is due 12 calendar months after you submit the notification of compliance status. Each subsequent annual compliance certification is due 12 calendar months after the previous annual compliance certification. The annual compliance certification provides the compliance status for each operating month during the 12 calendar months period ending 60 days prior to the date on which the report is due. Include the information in paragraphs (a)(1) through (6) of this section in the annual certification:

(1) The name and address of the owner or operator.

(2) The physical address of the vegetable oil production process.

(3) Each listed oilseed type processed during the 12 calendar months period covered by the report.

(4) Each HAP identified under § 63.2854(a) as being present in concentrations greater than 1 percent by volume in each delivery of solvent received during the 12 calendar months period covered by the report.

(5) A statement designating the source as a major source of HAP or a demonstration that the source qualifies as an area source. An area source is a source that is not a major source and is not collocated within a plant site with other sources that are individually or collectively a major source.

(6) A compliance certification to indicate whether the source was in compliance for each compliance determination made during the 12 calendar months period covered by the report. For each such compliance determination, you must include a certification of the items in paragraphs (a)(6)(i) through (ii) of this section:

(i) You are following the procedures described in the plan for demonstrating compliance.

(ii) The compliance ratio is less than or equal to 1.00.

(b) Deviation notification report. Submit a deviation report for each compliance determination you make in which the compliance ratio exceeds 1.00 as determined under § 63.2840(c). Submit the deviation report by the end of the month following the calendar month in which you determined the deviation. The deviation notification report must include the items in paragraphs (b)(1) through (4) of this section:

(1) The name and address of the owner or operator.

(2) The physical address of the vegetable oil production process.

(3) Each listed oilseed type processed during the 12 operating months period for which you determined the deviation.

(4) The compliance ratio comprising the deviation. You may reduce the frequency of submittal of the deviation notification report if the agency responsible for these NESHAP does not object as provided in § 63.10(e)(3)(iii).

(c) Periodic startup, shutdown, and malfunction report. If you choose to operate your source under an initial startup period subject to § 63.2850(c)(2) or (d)(2) or a malfunction period subject to § 63.2850(e)(2), you must submit a periodic SSM report by the end of the calendar month following each month in which the initial startup period or malfunction period occurred. The periodic SSM report must include the items in paragraphs (c)(1) through (3) of this section:

(1) The name, title, and signature of a source's responsible official who is certifying that the report accurately states that all actions taken during the initial startup or malfunction period were consistent with the SSM plan.

(2) A description of events occurring during the time period, the date and duration of the events, and reason the time interval qualifies as an initial startup period or malfunction period.

(3) An estimate of the solvent loss during the initial startup or malfunction period with supporting documentation.

(d) Immediate SSM reports. If you handle a SSM during an initial startup period subject to § 63.2850(c)(2) or (d)(2) or a malfunction period subject to § 63.2850(e)(2) differently from procedures in the SSM plan, then you must submit an immediate SSM report. Immediate SSM reports consist of a telephone call or facsimile transmission to the responsible agency within 2 working days after starting actions inconsistent with the SSM plan, followed by a letter within 7 working days after the end of the event. The letter must include the items in paragraphs (d)(1) through (3) of this section:

(1) The name, title, and signature of a source's responsible official who is certifying the accuracy of the report, an explanation of the event, and the reasons for not following the SSM plan.

(2) A description and date of the SSM event, its duration, and reason it qualifies as a SSM.

(3) An estimate of the solvent loss for the duration of the SSM event with supporting documentation.

§ 63.2862 What records must I keep?

(a) You must satisfy the recordkeeping requirements of this section by the compliance date for your source specified in Table 1 of § 63.2834.

(b) Prepare a plan for demonstrating compliance (as described in § 63.2851) and a SSM plan (as described in § 63.2852). In these two plans, describe the procedures you will follow in obtaining and recording data, and determining compliance under normal operations or a SSM subject to the § 63.2850(c)(2) or (d)(2) initial startup period or the § 63.2850(e)(2) malfunction period. Complete both plans before the compliance date for your source and keep them on-site and readily available as long as the source is operational.

(c) If your source processes any listed oilseed, record the items in paragraphs (c)(1) through (5) of this section:

(1) For the solvent inventory, record the information in paragraphs (c)(1)(i) through (vii) of this section in accordance with your plan for demonstrating compliance:

(i) Dates that define each operating status period during a calendar month.

(ii) The operating status of your source such as normal operation, nonoperating, initial startup period, malfunction period, or exempt operation for each recorded time interval.

(iii) Record the gallons of extraction solvent in the inventory on the beginning and ending dates of each normal operating period.

(iv) The gallons of all extraction solvent received, purchased, and recovered during each calendar month.

(v) All extraction solvent inventory adjustments, additions or subtractions. You must document the reason for the adjustment and justify the quantity of the adjustment.

(vi) The total solvent loss for each calendar month, regardless of the source operating status.

(vii) The actual solvent loss in gallons for each operating month.

(2) For the weighted average volume fraction of HAP in the extraction solvent, you must record the items in paragraphs (c)(2)(i) through (iii) of this section:

(i) The gallons of extraction solvent received in each delivery.

(ii) The volume fraction of each HAP exceeding 1 percent by volume in each delivery of extraction solvent.

(iii) The weighted average volume fraction of HAP in extraction solvent received since the end of the last operating month as determined in accordance with § 63.2854(b)(2).

(3) For each type of listed oilseed processed, record the items in paragraphs (c)(3)(i) through (vi) of this section, in accordance with your plan for demonstrating compliance:

(i) The dates that define each operating status period. These dates must be the same as the dates entered for the extraction solvent inventory.

(ii) The operating status of your source such as normal operation, nonoperating, initial startup period, malfunction period, or exempt operation for each recorded time interval. On the log for each type of listed oilseed that is not being processed during a normal operating period, you must record which type of listed oilseed is being processed in addition to the source operating status.

(iii) The oilseed inventory for the type of listed oilseed being processed on the beginning and ending dates of each normal operating period.

(iv) The tons of each type of listed oilseed received at the affected source each normal operating period.

(v) All listed oilseed inventory adjustments, additions or subtractions for normal operating periods. You must document the reason for the adjustment and justify the quantity of the adjustment.

(vi) The tons of each type of listed oilseed processed during each operating month.

(d) After your source has processed listed oilseed for 12 operating months, and you are not operating during an initial startup period as described in § 63.2850(c)(2) or (d)(2), or a malfunction period as described in § 63.2850(e)(2), record the items in paragraphs (d)(1) through (5) of this section by the end of the calendar month following each operating month:

(1) The 12 operating months rolling sum of the actual solvent loss in gallons as described in § 63.2853(c).

(2) The weighted average volume fraction of HAP in extraction solvent received for the previous 12 operating months as described in § 63.2854(b)(3).

(3) The 12 operating months rolling sum of each type of listed oilseed processed at the affected source in tons as described in § 63.2855(c).

(4) A determination of the compliance ratio. Using the values from §§ 63.2853, 63.2854, 63.2855, and Table 1 of § 63.2840, calculate the compliance ratio using Equation 2 of § 63.2840.

(5) A statement of whether the source is in compliance with all of the requirements of this subpart. This includes a determination of whether you have met all of the applicable requirements in § 63.2850.

(e) For each SSM event subject to an initial startup period as described in § 63.2850(c)(2) or (d)(2), or a malfunction period as described in § 63.2850(e)(2), record the items in paragraphs (e)(1) through (3) of this section by the end of the calendar month following each month in which the initial startup period or malfunction period occurred:

(1) A description and date of the SSM event, its duration, and reason it qualifies as an initial startup or malfunction.

(2) An estimate of the solvent loss in gallons for the duration of the initial startup or malfunction period with supporting documentation.

(3) A checklist or other mechanism to indicate whether the SSM plan was followed during the initial startup or malfunction period.

§ 63.2863 In what form and how long must I keep my records?

(a) Your records must be in a form suitable and readily available for review in accordance with § 63.10(b)(1).

(b) As specified in § 63.10(b)(1), you must keep each record for 5 years following the date of each occurrence, measurement, maintenance, corrective action, report, or record.

(c) You must keep each record on-site for at least 2 years after the date of each occurrence, measurement, maintenance, corrective action, report, or record, in accordance with §3.10(b)(1). You can keep the records off-site for the remaining 3 years.

Other Requirements and Information

§ 63.2870 What parts of the General Provisions apply to me?

Table 1 of this section shows which parts of the General Provisions in §§ 63.1 through 63.15 apply to you. Table 1 of § 63.2870 follows:

Table 1 of § 63.2870.—Applicability of 40 CFR Part 63, Subpart A, to 40 CFR, Part 63, Subpart GGGG
General provisions citation | Subject of citation | Brief description of requirement | Applies to subpart | Explanation
§ 63.1 | Applicability | Initial applicability determination; applicability after standard established; permit requirements; extensions; notifications | Yes |
§ 63.2 | Definitions | Definitions for part 63 standards | Yes | Except as specifically provided in this subpart.
§ 63.3 | Units and abbreviations | Units and abbreviations for part 63 standards | Yes
§ 63.4 | Prohibited activities and circumvention | Prohibited activities; compliance date; circumvention; severability | Yes |
§ 63.5 | Construction/reconstruction | Applicability; applications; approvals | Yes | Except for subsections of § 63.5 as listed below.
§ 63.5(c) | [Reserved] |  |  |
§ 63.5(d)(1)(ii)(H) | Application for approval | Type and quantity of HAP, operating parameters | No | All sources emit HAP. Subpart GGGG does not require control from specific emission points.
§ 63.5(d)(1)(ii)(I) | [Reserved] |  |  |
§ 63.5(d)(1)(iii), (d)(2), (d)(3)(ii) |  | Application for approval | No | The requirements of the application for approval for new, reconstructed and significantly modified sources are described in § 63.2860(b) and (c) of subpart GGGG. General provision requirements for identification of HAP emission points or estimates of actual emissions are not required. Descriptions of control and methods, and the estimated and actual control efficiency of such do not apply. Requirements for describing control equipment and the estimated and actual control efficiency of such equipment apply only to control equipment to which the subpart GGGG requirements for quantifying.
§ 63.6 | Applicability of General Provisions | Applicability | Yes | Except for subsections of § 63.6 as listed below.
§ 63.6(b)(1)-(3) | Compliance dates, new and reconstructed sources |  | No | Section 63.2834 of subpart GGGG specifies the compliance dates for new and reconstructed sources.
§ 63.6(b)(6) | [Reserved] |  |  |
§ 63.6(c)(3)-(4) | [Reserved] |  |  |
§ 63.6(d) | [Reserved] |  |  |
§ 63.6(e) | Operation and maintenance requirements |  | Yes | Implement your SSM plan, as specified in § 63.2851.
§ 63.6(f)-(g) | Compliance with nonopacity emission standards except during SSM | Comply with emission standards at all times except during SSM | No | Subpart GGGG does not have nonopacity requirements.
§ 63.6(h) | Opacity/Visible emission (VE) standards |  | No | Subpart GGGG has no opacity or VE standards.
§ 63.6(i) | Compliance extension | Procedures and criteria for responsible agency to grant compliance extension | Yes |
§ 63.6(j) | Presidential compliance exemption | President may exempt source category from requirement to comply with subpart | Yes |
§ 63.7 | Performance testing requirements | Schedule, conditions, notifications and procedures | Yes | Subpart GGGG requires performance testing only if the source applies additional control that destroys solvent. Section 63.2850(a)(6) requires sources to follow the performance testing guidelines of the General Provisions if a control is added.
§ 63.8 | Monitoring requirements |  | No | Subpart GGGG does not require monitoring other than as specified therein.
§ 63.9 | Notification requirements | Applicability and state delegation | Yes | Except for subsections of § 63.9 as listed below.
§ 63.9(b)(2) | Notification requirements | Initial notification requirements for existing sources | No | Section 63.2860(a) of subpart GGGG specifies the requirements of the initial notification for existing sources.
§ 63.9(b)(3)-(5) | Notification requirements | Notification requirement for certain new/reconstructed sources | Yes | Except the information requirements differ as described in § 63.2860(b) of subpart GGGG.
§ 63.9(e) | Notification of performance test | Notify responsible agency 60 days ahead | Yes | Applies only if performance testing is performed.
§ 63.9(f) | Notification of VE/opacity observations | Notify responsible agency 30 days ahead | No | Subpart GGGG has no opacity or VE standards.
§ 63.9(g) | Additional notifications when using a continuous monitoring system (CMS) | Notification of performance evaluation; Notification using COMS data; notification that exceeded criterion for relative accuracy | No | Subpart GGGG has no CMS requirements.
§ 63.9(h) | Notification of compliance status | Contents | No | Section 63.2860(d) of subpart GGGG specifies requirements for the notification of compliance status.
§ 63.10 | Recordkeeping/reporting | Schedule for reporting, record storage | Yes | Except for subsections of § 63.10 as listed below.
§ 63.10(b)(2)(i) | Recordkeeping | Record SSM event | Yes | Applicable to periods when sources must implement their SSM plan as specified in subpart GGGG.
§ 63.10(b)(2)(ii)-(iii) | Recordkeeping | Malfunction of air pollution equipment | No | Applies only if air pollution control equipment has been added to the process and is necessary for the source to meet the emission limit.
§ 63.10(b)(2)(vi) | Recordkeeping | CMS recordkeeping | No | Subpart GGGG has no CMS requirements.
§ 63.10(b)(2)(viii)-(ix) | Recordkeeping | Conditions of performance test | Yes | Applies only if performance tests are performed. Subpart GGGG does not have any CMS opacity or VE observation requirements.
§ 63.10(b)(2)(x)-(xii) | Recordkeeping | CMS, performance testing, and opacity and VE observations recordkeeping | No | Subpart GGGG does not require CMS.
§ 63.10(c) | Recordkeeping | Additional CMS recordkeeping | No | Subpart GGGG does not require CMS.
§ 63.10(d)(2) | Reporting | Reporting performance test results | Yes | Applies only if performance testing is performed.
§ 63.10(d)(3) | Reporting | Reporting opacity or VE observations | No | Subpart GGGG has no opacity or VE standards.
§ 63.10(d)(4) | Reporting | Progress reports | Yes | Applies only if a condition of compliance extension exists.
§ 63.10(d)(5) | Reporting | SSM reporting | No | Section 63.2861(c) and (d) specify SSM reporting requirements.
§ 63.10(e) | Reporting | Additional CMS reports | No | Subpart GGGG does not require CMS.
§ 63.11 | Control device requirements | Requirements for flares | Yes | Applies only if your source uses a flare to control solvent emissions. Subpart GGGG does not require flares.
§ 63.12 | State authority and delegations | State authority to enforce standards | Yes |
§ 63.13 | State/regional addresses | Addresses where reports, notifications, and requests are sent | Yes |
§ 63.14 | Incorporation by reference | Test methods incorporated by reference | Yes |
§ 63.15 | Availability of information and confidentiality | Public and confidential information | Yes |

§ 63.2871 Who implements and enforces this subpart?

(a) This subpart can be implemented by us, the U.S. EPA, or a delegated authority such as your State, local, or tribal agency. If the U.S. EPA Administrator has delegated authority to your State, local, or tribal agency, then that agency, as well as the U.S. EPA, has the authority to implement and enforce this subpart. You should contact your U.S. EPA Regional Office to find out if this subpart is delegated to your State, local, or tribal agency.

(b) In delegating implementation and enforcement authority of this subpart to a State, local, or tribal agency under section 40 CFR part 63, subpart E, the authorities contained in paragraph (c) of this section are retained by the Administrator of the U.S. EPA and are not transferred to the State, local, or tribal agency.

(c) The authorities that will not be delegated to State, local, or tribal agencies are as follows:

(1) Approval of alternative nonopacity emissions standards under § 63.6(g).

(2) Approval of alternative opacity standards under § 63.6(h)(9).

(3) Approval of major alternatives to test methods under § 63.7(e)(2)(ii) and (f) and as defined in § 63.90.

(4) Approval of major alternatives to monitoring under § 63.8(f) and as defined in § 63.90.

(5) Approval of major alternatives to recordkeeping and reporting under § 63.10(f) and as defined in § 63.90.

§ 63.2872 What definitions apply to this subpart?

Terms used in this subpart are defined in the sources listed:

(a) The Clean Air Act, section 112(a).

(b) In 40 CFR 63.2, the NESHAP General Provisions.

(c) In this section as follows:

Accounting month means a time interval defined by a business firm during which corporate economic and financial factors are determined on a consistent and regular basis. An accounting month will consist of approximately 4 to 5 calendar weeks and each accounting month will be of approximate equal duration. An accounting month may not correspond exactly to a calendar month, but 12 accounting months will correspond exactly to a calendar year.

Actual solvent loss means the gallons of solvent lost from a source during 12 operating months as determined in accordance with § 63.2853.

Agricultural product means any commercially grown plant or plant product.

Allowable HAP loss means the gallons of HAP that would have been lost from a source if the source was operating at the solvent loss factor for each listed oilseed type. The allowable HAP loss in gallons is determined by multiplying the tons of each oilseed type processed during the previous 12 operating months, as determined in accordance with § 63.2855, by the corresponding oilseed solvent loss factor (gal/ton) listed in Table 1 of § 63.2840, and by the dimensionless constant 0.64, and summing the result for all oilseed types processed.

Area source means any source that does not meet the major source definition.

As received is the basis upon which all oilseed measurements must be determined and refers to the oilseed chemical and physical characteristics as initially received by the source and prior to any oilseed handling and processing.

Batch operation means any process that operates in a manner where the addition of raw material and withdrawal of product do not occur simultaneously. Typically, raw material is added to a process, operational steps occur, and a product is removed from the process. More raw material is then added to the process and the cycle repeats.

Calendar month means 1 month as specified in a calendar.

Compliance date means the date on which monthly compliance recordkeeping begins. For existing sources, recordkeeping typically begins 3 years after the effective date of the subpart. For new and reconstructed sources, recordkeeping typically begins upon initial startup, except as noted in § 63.2834.

Compliance ratio means a ratio of the actual HAP loss in gallons from the previous 12 operating months to an allowable HAP loss in gallons, which is determined by using oilseed solvent loss factors in Table 1 of § 63.2840, the weighted average volume fraction of HAP in solvent received for the previous 12 operating months, and the tons of each type of listed oilseed processed in the previous 12 operating months. Months during which no listed oilseed is processed, or months during which the § 63.2850(c)(2) or (d)(2) initial startup period or the § 63.2850(e)(2) malfunction period applies, are excluded from this calculation. Equation 2 of § 63.2840 is used to calculate this value. If the value is less than or equal to 1.00, the source is in compliance. If the value is greater than 1.00, the source is deviating from compliance.

Continuous operation means any process that adds raw material and withdraws product simultaneously. Mass, temperature, concentration and other properties typically approach steady-state conditions.

Conventional desolventizer means a desolventizer toaster that operates with indirect and direct-contact steam to remove solvent from the extracted meal. Oilseeds processed in a conventional desolventizer produce crude vegetable oil and crude meal products, such as animal feed.

Corn germ dry milling means a source that processes corn germ that has been separated from the other corn components using a “dry” process of mechanical chafing and air sifting.

Corn germ wet milling means a source that processes corn germ that has been separated from other corn components using a “wet” process of centrifuging a slurry steeped in a dilute sulfurous acid solution.

Exempt period means a period of time during which a source processes agricultural products not defined as listed oilseed.

Extraction solvent means an organic chemical medium used to remove oil from an oilseed. Typically, the extraction solvent is a commercial grade of hexane isomers which have an approximate HAP content of 64 percent by volume.

Hazardous air pollutant (HAP) means any substance or mixture of substances listed as a hazardous air pollutant under section 112(b) of the Clean Air Act, as of April 12, 2001.

Initial startup date means the first calendar day that a new, reconstructed or significantly modified source processes any listed oilseed.

Initial startup period means a period of time from the initial startup date of a new, reconstructed or significantly modified source, for which you choose to operate the source under an initial startup period subject to § 63.2850(c)(2) or (d)(2). During an initial startup period, a source is in compliance with the standards by following the operating and maintenance procedures listed for minimizing HAP emissions in the source's SSM plan rather than being subject to a HAP emission limit. The initial startup period following initial startup of a new or reconstructed source may not exceed 6 calendar months. The initial startup period following a significant modification may not exceed 3 calendar months. Solvent and oilseed inventory information recorded during the initial startup period is excluded from use in any compliance ratio determinations.

Large cottonseed plant means a vegetable oil production process that processes 120,000 tons or more of cottonseed and other listed oilseed during all normal operating periods in a 12 operating months period used to determine compliance.

Malfunction period means a period of time between the beginning and end of a process malfunction and the time reasonably necessary for a source to correct the malfunction for which you choose to operate the source under a malfunction period subject to § 63.2850(e)(2). This period may include the duration of an unscheduled process shutdown, continued operation during a malfunction, or the subsequent process startup after a shutdown resulting from a malfunction. During a malfunction period, a source complies with the standards by following the operating and maintenance procedures described for minimizing HAP emissions in the source's SSM plan rather than being subject to a HAP emission limit. Therefore, solvent and oilseed inventory information recorded during a malfunction period is excluded from use in any compliance ratio determinations.

Mechanical extraction means removing vegetable oil from oilseeds using only mechanical devices such as presses or screws that physically force the oil from the oilseed. Mechanical extraction techniques use no organic solvents to remove oil from an oilseed.

Nonoperating period means any period of time in which a source processes no agricultural product. This operating status does not apply during any period in which the source operates under an initial startup period as described in § 63.2850(c)(2) or (d)(2), or a malfunction period, as described in § 63.2850(e)(2).

Normal operating period means any period of time in which a source processes a listed oilseed that is not categorized as an initial startup period as described in § 63.2850(c)(2) or (d)(2), or a malfunction period, as described in § 63.2850(e)(2). At the beginning and ending dates of a normal operating period, solvent and oilseed inventory information is recorded and included in the compliance ratio determination.

Oilseed or listed oilseed means the following agricultural products: corn germ, cottonseed, flax, peanut, rapeseed (for example, canola), safflower, soybean, and sunflower.

Oilseed solvent loss factor means a ratio expressed as gallons of solvent loss per ton of oilseed processed. The solvent loss factors are presented in Table 1 of § 63.2840 and are used to determine the allowable HAP loss.

Operating month means any calendar or accounting month in which a source processes any quantity of listed oilseed, excluding any entire calendar or accounting month in which the source operated under an initial startup period as described in § 63.2850(c)(2) or (d)(2), or a malfunction period as described in § 63.2850(e)(2). An operating month may include time intervals characterized by several types of operating status. However, an operating month must have at least one normal operating period.

Significant modification means the addition of new equipment or the modification of existing equipment that:

(1) Significantly affects solvent losses from your vegetable oil production process;

(2) The fixed capital cost of the new components represents a significant percentage of the fixed capital cost of building a comparable new vegetable oil production process;

(3) The fixed capital cost of the new equipment does not constitute reconstruction as defined in § 63.2; and

(4) Examples of significant modifications include replacement of or major changes to solvent recovery equipment such as extractors, desolventizer-toasters/dryer-coolers, flash desolventizers, and distillation equipment associated with the mineral oil system, and equipment affecting desolventizing efficiency and steady-state operation of your vegetable oil production process such as flaking mills, oilseed heating and conditioning equipment, and cracking mills.

Small cottonseed plant means a vegetable oil production process that processes less than 120,000 tons of cottonseed and other listed oilseed during all normal operating periods in a 12 operating months period used to determine compliance.

Solvent extraction means removing vegetable oil from listed oilseed using an organic solvent in a direct-contact system.

Solvent working capacity means the volume of extraction solvent normally retained in solvent recovery equipment. Examples include components such as the solvent extractor, desolventizer-toaster, solvent storage and working tanks, mineral oil absorption system, condensers, and oil/solvent distillation system.

Specialty desolventizer means a desolventizer that removes excess solvent from soybean meal using vacuum conditions, energy from superheated solvent vapors, or reduced operating conditions (e.g., temperature) as compared to the typical operation of a conventional desolventizer. Soybeans processed in a specialty desolventizer result in high-protein vegetable meal products for human and animal consumption, such as calf milk replacement products and meat extender products.

Vegetable oil production process means the equipment comprising a continuous process for producing crude vegetable oil and meal products, including specialty soybean products, in which oil is removed from listed oilseeds through direct contact with an organic solvent. Process equipment typically includes the following components: oilseed preparation operations (including conditioning, drying, dehulling, and cracking), solvent extractors, desolventizer-toasters, meal dryers, meal coolers, meal conveyor systems, oil distillation units, solvent evaporators and condensers, solvent recovery system (also referred to as a mineral oil absorption system), vessels storing solvent-laden materials, and crude meal packaging and storage vessels. A vegetable oil production process does not include vegetable oil refining operations (including operations such as bleaching, hydrogenation, and deodorizing) and operations that engage in additional chemical treatment of crude soybean meals produced in specialty desolventizer units (including operations such as soybean isolate production).

[FR Doc. 01-8801 Filed 4-11-01; 8:45 am]

BILLING CODE 6560-50-P